DEPARTMENT OF COMMERCE

National Oceanic and Atmospheric Administration

RIN 0648-XF185

Fisheries of the Caribbean, Gulf of Mexico, and South Atlantic; Snapper-Grouper Fishery Off the Southern Atlantic States, Dolphin and Wahoo Fishery Off the Atlantic States, and Coral and Coral Reefs Fishery in the South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Dr. Janelle Fleming, on behalf of the Eastern Carolina Artificial Reef Association (ECARA). If granted, the EFP would authorize the deployment of Maine lobster traps, crab pot Christmas trees, and geometric reef balls (fish attracting devices) at several sites in the Federal waters off North Carolina to determine the efficacy of these gear types for attracting and collecting invasive lionfish.

DATES: Written comments must be received on or before March 24, 2017.

ADDRESSES: You may submit comments on the application, identified by “NOAA-NMFS-2017-0011”, by either of the following methods:

• Electronic Submission: Submit all electronic public comments via the Federal e-Rulemaking Portal. Go to www.regulations.gov/#!docketDetail;D=NOAA-NMFS-2017-0011, click the “Comment Now!” icon, complete the required fields, and enter or attach your comments.

• Mail: Submit written comments to Frank Helies, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Frank Helies, 727-824-5305; email frank.helies@noaa.gov.

SUPPLEMENTARY INFORMATION: The EFP is requested under the authority of the Magnuson-Stevens Fishery Conservation and Management Act (16 U.S.C 1801 et seq.), and regulations at 50 CFR 600.745(b) concerning exempted fishing.

The EFP request involves activities covered by regulations implementing the Fishery Management Plans (FMP) for Federally managed fisheries of the South Atlantic Region, which prohibit the use of fish traps in the South Atlantic (50 CFR 622.9). The applicant requests authorization to deploy two sets of five Maine lobster traps with crab pot Christmas trees and geometric reef balls. Crab pot Christmas trees are a vertical, pyramid-shaped structure with many branch-type projections. Crab pot Christmas trees and geometric reef balls would be used as fish attracting devices in the project. The deployed fishing gear and accompanying attracting devices would be set along artificial reef sites, natural reef sites, rocky reef bottom, and a flat sandy area in Federal waters off North Carolina.

The applicant has requested the EFP be effective from April 15, 2017, through December 31, 2018.

The purpose of this study is to support continued research on traps that could be used for collecting invasive lionfish off eastern North Carolina artificial reefs, and to determine their efficacy for lionfish collection and as fish attracting devices. Additionally, the project intends to assess consumers' preference for lionfish as an exotic food source in a restaurant setting to determine if Carteret County, North Carolina, would support a consumer market for the species.

Each string of five Maine lobster traps and crab pot Christmas trees will be connected by a chain with no buoy lines to the surface, and deployed along designated hard bottom features with a distance of 30 ft (9.14 m) to 50 ft (15.24 m) between each trap. After deployment, divers will verify the position of the deployed fishing gear to ensure they are located between 20 ft (6.10 m) and 30 ft (9.14 m) from the designated bottom feature. Fishing gear deployment would occur year-round along the North Carolina coast from 3 nautical miles offshore, and up to 360 ft (109.68 m) in depth. The fishing gear will be deployed for at least 48 hours and no longer than 3 weeks. After 48 hours, divers will count and identify the number of fish inside and around the fishing gear, and record video prior to hauling the gear.

Video images will be used to assess the success of the crab pot Christmas trees and geometric reef balls as attracting devices for lionfish, and other fish species. Fish captured in the Maine lobster traps will be quantified to the lowest possible taxon, measured, photographed/video documented, and released alive. Any egg bearing lobsters captured in a trap will be returned to the water and released alive. Captured lionfish will be counted, measured, and prepared for consumption at nearby restaurants. These lionfish will be offered, free of charge, to patrons as part of the consumer demand assessment portion of the research project.

The applicant previously submitted an application for an EFP for this study and NMFS noticed receipt of that application in the Federal Register (80 FR 5737, February 3, 2015). No public comments were submitted based on that notice and the South Atlantic Fishery Management Council (Council) supported the issuance of an EFP for the study. Based on that application and NMFS review, an EFP was issued on March 6, 2015, with an expiration date of December 31, 2016. The applicant now seeks to continue this study, as during the course of the previous EFP, they encountered logistical difficulties related to vessel availability and obtaining the required fishing gear.

NMFS finds this application warrants further consideration based on a preliminary review. Possible conditions the agency may impose on this permit, if they are granted, include but are not limited to, a prohibition of conducting research within marine protected areas, marine sanctuaries, special management zones, or artificial reefs without additional authorization, and use of escape panels on the Maine lobster traps. Additionally, and consistent with Appendix F to 50 CFR part 622, NMFS will require any sea turtles taken incidentally during the course of fishing or scientific research activities to be handled with due care to prevent injury to live specimens, observed for physical condition, and returned to the water. A final decision on issuance of the EFP will depend on NMFS' review of public comments received on the application, consultations with the affected state, the Council, and the U.S. Coast Guard, and a determination that the application, and EFP if issued, are consistent with all applicable laws.

Authority: 16 U.S.C 1801 et seq.

Dated: February 16, 2017.
Karen H. Abrams,
Acting Deputy Director, Office of Sustainable Fisheries, National Marine Fisheries Service.

[FR Doc. 2017-03458 Filed 2-21-17; 8:45 am]

BILLING CODE 3510-22-P